DEPARTMENT OF THE INTERIOR

National Park Service

[NPS-WASO-NAGPRA-NPS0031918; PPWOCRADN0-PCU00RP14.R50000]

Notice of Inventory Completion: University of Wisconsin-Madison, Department of Anthropology, Madison, WI

AGENCY: National Park Service, Interior.

ACTION: Notice.

SUMMARY: The University of Wisconsin-Madison, Department of Anthropology has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the University of Wisconsin-Madison, Department of Anthropology. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the University of Wisconsin-Madison, Department of Anthropology at the address in this notice by June 21, 2021.

ADDRESSES: Sissel Schroeder, University of Wisconsin-Madison, Department of Anthropology, 1180 Observatory Drive, 5240 Social Sciences Building, Madison, WI 53706, telephone (608) 262-0317, email sschroeder2@wisc.edu.

SUPPLEMENTARY INFORMATION: Notice is here given in accordance with the Native American Graves Protection and Repatriation Act (NAGPRA), 25 U.S.C. 3003, of the completion of an inventory of human remains under the control of the University of Wisconsin-Madison, Department of Anthropology, Madison, WI. The human remains were removed from Grant County, WI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Wisconsin-Madison, Department of Anthropology professional staff in consultation with representatives of the Forest County Potawatomi Community, Wisconsin; Ho-Chunk Nation of Wisconsin; Lac Courte Oreilles Band of Lake Superior Chippewa Indians of Wisconsin; Lac du Flambeau Band of Lake Superior Chippewa Indians of the Lac du Flambeau Reservation of Wisconsin; Menominee Indian Tribe of Wisconsin; Sokaogon Chippewa Community, Wisconsin; and the Stockbridge Munsee Community, Wisconsin. The Winnebago Tribe of Nebraska was invited to consult but did not participate. Hereafter, the above listed Indian Tribes are referred to as “The Consulted and Invited Tribes.”

History and Description of the Remains

At an unknown time, human remains representing, at minimum, one individual were removed from the Nelson Dewey site (47GT1) in Grant County, WI. According to a dissertation by Lois Lippold, Dr. David A. Baerreis of the University of Wisconsin-Madison Anthropology Department conducted limited salvage excavation at this site. Although no summary excavation report is available, the University of Wisconsin-Madison Anthropology Department reasonably believes these human remains were collected during Baerreis' salvage excavations, and that they have likely been curated at the University of Wisconsin-Madison Department of Anthropology since the time of their recovery. The human remains, which are fragmentary, belong to an adult of indeterminate sex. No known individual was identified. No associated funerary objects are present.

The Nelson Dewey site is situated east of the Mississippi River in Nelson Dewey State Park, near the town of Cassville. It is a large pre-contact village site with Middle and Late Woodland components. Wilfred Logan excavated several trenches across the site in 1955. Plow zone deposits produced Late Woodland Madison Cord-Impressed pottery, as well as Millville Phase Middle Woodland artifacts.

Between 1967-1972, human remains representing, at minimum, five individuals were removed from the Brogley Rockshelter in Grant County, WI. The partial and fragmentary skeletal remains belong to one adult of unknown sex, one subadult of unknown sex, one young child, and two fetuses. No known individuals were identified. No associated funerary objects are present.

The Brogley Rockshelter (47GT156) is a rock overhang located on the west bank of the Platte River. It was excavated between 1967-1972 by the Platteville Student Archeologists under the direction of avocational archeologist Robert Nelson, and in the summer of 1972 by a UW-Madison graduate student, Donna Scott. Deeply stratified cultural deposits of Early-Middle Archaic through Late Woodland stages were identified. The upper levels of the site had been disturbed by looting and a tunnel at the rear of the overhang had been dug by spelunkers prior to 1965. The five individuals were believed to be recovered from this spelunker tunnel prior to the excavations. The human remains were identified during a 2012 rehousing project and are presumed to have been curated at the University of Wisconsin-Madison, Department of Anthropology since the conclusion of the excavations.

Determinations Made by the University of Wisconsin-Madison, Department of Anthropology

Officials of the University of Wisconsin-Madison, Department of Anthropology have determined that:

• Pursuant to 25 U.S.C. 3001(9), the human remains described in this notice are Native American based on an examination by a physical anthropologist and the recovery from known archeological sites with recorded documentation of prehistoric Native American occupations.

• Pursuant to 25 U.S.C. 3001(9), the human remains described in this notice represent the physical remains of six individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Bad River Band of the Lake Superior Tribe of Chippewa Indians of the Bad River Reservation, Wisconsin; Bay Mills Indian Community, Michigan; Chippewa Cree Indians of the Rocky Boy's Reservation, Montana [previously listed as Chippewa-Cree Indians of the Rocky Boy's Reservation, Montana]; Citizen Potawatomi Nation, Oklahoma; Forest County Potawatomi Community, Wisconsin; Grand Traverse Band of Ottawa and Chippewa Indians, Michigan; Hannahville Indian Community, Michigan; Ho-Chunk Nation of Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Match-e-be-nash-she-wish Band of Pottawatomi Indians of Michigan; Minnesota Chippewa Tribe, Minnesota (Six component reservations: Bois Forte Band (Nett Lake); Fond du Lac Band; Grand Portage Band; Leech Lake Band; Mille Lacs Band; White Earth Band); Nottawaseppi Huron Band of the Potawatomi, Michigan [previously listed as Huron Potawatomi, Inc.]; Ottawa Tribe of Oklahoma; Pokagon Band of Potawatomi Indians, Michigan and Indiana; Prairie Band Potawatomi Nation [previously listed as Prairie Band of Potawatomi Nation, Kansas]; Quechan Tribe of the Fort Yuma Indian Reservation, California & Arizona; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the Winnebago Tribe of Nebraska (hereafter referred to as “The Tribes”).

• Pursuant to 43 CFR 10.11(c)(1), the disposition of the human remains may be to The Tribes.

Additional Requestors and Disposition

Representatives of any Indian Tribe or Native Hawaiian organization not identified in this notice that wish to request transfer of control of these human remains should submit a written request with information in support of the request to Sissel Schroeder, University of Wisconsin-Madison, Department of Anthropology, 1180 Observatory Drive, 5240 Social Sciences Building, Madison, WI 53706, telephone (608) 262-0317, email sschroeder2@wisc.edu, by June 21, 2021. After that date, if no additional requestors have come forward, transfer of control of the human remains to The Tribes may proceed.

The University of Wisconsin-Madison Department of Anthropology is responsible for notifying The Tribes and The Consulted and Invited Tribes that this notice has been published.

Dated: May 6, 2021.
Melanie O'Brien,
Manager, National NAGPRA Program.

[FR Doc. 2021-10655 Filed 5-19-21; 8:45 am]

BILLING CODE 4312-52-P